DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Assistant Administrator of the Mitigation Directorate has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

State | City/town/county | Source of flooding | Location | * Elevation in feet (NGVD) + Elevation in feet (NAVD) # Depth in feet above ground Modified
City of Richmond, Virginia
FEMA Docket No.: B-7768
Virginia | City of Richmond | Bacons Quarter Branch | Approximately at the confluence with Shockoe Creek | +67
|  |  | Approximately 1,400 feet upstream of Hermitage road | +184
Virginia | City of Richmond | Battery Park Ponding Area | Approximately 2,250 feet south of Overbrook Road | +136
|  |  | Approximately 850 feet north of Overbrook Road | +139
Virginia | City of Richmond | Cannons Creek Branch | Approximately at the confluence with Bacons Quarter Branch | +74
|  |  | Approximately 200 feet downstream of Vale Street | +96
Virginia | City of Richmond | Jordans Branch | Approximately 35 feet north of Route 64 near the Henrico County line | +164
|  |  | Approximately 120 feet north of Route 64 near the Henrico County line | +164
Virginia | City of Richmond | Pocoshock | Approximately at the Chesterfield County line | +133
|  |  | Approximately at the confluence with Pocosham Creek | +133
Virginia | City of Richmond | Shockoe Creek | Approximately at East Franklin Street | +23
|  |  | Approximately 2,700 feet upstream of Magnolia Street | +129
* National Geodetic Vertical Datum.
+ North American Vertical Datum.
# Depth in feet above ground.
ADDRESSES
City of Richmond
Maps are available for inspection at City Hall, 900 East Broad Street, Room 600, Richmond, VA 23219.

Flooding source(s) | Location of referenced elevation | * Elevation in feet (NGVD) + Elevation in feet (NAVD) # Depth in feet above ground modified | Communities affected
Monterey County, California and Incorporated Areas
Docket No.: FEMA-B-7763
Calera Creek | At the confluence with El Toro Creek | +236 | Unincorporated Areas of Monterey County.
| Approximately 1.2 miles upstream of Robley Road | +469
| Approximately 500 feet west of the intersection of Robley Road and Corral de Tierra | #1
Carmel River | Approximately 370 feet above the mouth of the river | +16 | Unincorporated Areas of Monterey County.
| Approximately 170 feet downstream of San Clemente Dam | +470
Carmel River Garland Ranch Overbank | At the convergence with Carmel River main channel | +180 | Unincorporated Areas of Monterey County.
| At the divergence from Carmel River main channel | +194
Carmel River Hacienda Overbank | At the convergence with Carmel River main channel | +49 | Unincorporated Areas of Monterey County.
| At the divergence from Carmel River main channel | +59
Carmel River North Highway 1 Overbank | Approximately 600 feet downstream of State Highway 1 | +25 | Unincorporated Areas of Monterey County, City of Carmel By The Sea.
| At the divergence from Carmel River main channel | +39
Carmel River Schulte Overbank | At the convergence with Carmel River main channel | +90 | Unincorporated Areas of Monterey County.
| At the divergence from Carmel River main channel | +102
Carmel River South Highway 1 Overbank | Approximately 1,100 feet upstream of confluence with Carmel River main channel | +16 | Unincorporated Areas of Monterey County.
| Approximately 500 feet downstream of divergence from Carmel River main channel | +38
El Toro Creek | Approximately 650 feet downstream of Highway 68 | +222 | Unincorporated Areas of Monterey County.
| Approximately 300 feet upstream of Highway 68 | +236
Harper Creek | At the confluence with San Benancio Gulch | +371 | Unincorporated Areas of Monterey County.
| Approximately 0.6 mile upstream of Rimrock Canyon Road | +605
Pacific Ocean | Approximately 400 feet north of the intersection of Camino Aguajito and Del Monte Avenue | +22 | Unincorporated Areas of Monterey County, City of Monterey.
San Benancio Gulch | At the confluence with El Toro Creek | +236 | Unincorporated Areas of Monterey County.
| Approximately 0.7 mile upstream of Ridge Back Road | +839
Watson Creek | At the confluence with Calera Creek | +408 | Unincorporated Areas of Monterey County.
| Approximately 1.1 miles upstream of Calle Viejo | +886
* National Geodetic Vertical Datum.
+ North American Vertical Datum.
# Depth in feet above ground.
ADDRESSES
City of Carmel by the Sea
Maps are available for inspection at Carmel-by-the-Sea City Hall, East Side of Monte Verde between Ocean and 7th Avenues, Carmel-by-the-Sea, California.
City of Monterey
Maps are available for inspection at City of Monterey Building and Safety Division, 580 Pacific Street, Monterey, California.
Unincorporated Areas of Monterey County
Maps are available for inspection at Monterey County Water Resources Agency, 893 Blanco Circle, Salinas, California.
Jersey County, Illinois, and Incorporated Areas
FEMA Docket No.: B-7769
Elsah Creek | At the mouth of the Mississippi River | +438 | Village of Elsah.
| Approximately 500 feet upstream of Maple Street | +438
Illinois River | At the mouth of the Mississippi River in Jersey County | +439 | Unincorporated Areas of Jersey County, City of Grafton.
| Approximately 1,500 feet upstream of the Illinois River Road Ferry Crossing | +439
Mississippi River | Approximately 0.5 miles downstream of the confluence of Piasa Creek | +437 | Unincorporated Areas of Jersey County, City of Grafton, Village of Elsah.
| At river mile 223.1 at the downstream tip of Iowa Island | +440
* National Geodetic Vertical Datum.
+ North American Vertical Datum.
# Depth in feet above ground.
ADDRESSES
City of Grafton
Maps are available for inspection at Grafton City Hall, 118 East Main Street, Grafton, IL 62037.
Unincorporated Areas of Jersey County
Maps are available for inspection at Jersey County Government Building, 200 North Lafayette St., Jerseyville, IL 62052.
Village of Elsah
Maps are available for inspection at 51 North Street, P.O. Box 28, Elsah, IL 62028.
Lincoln Parish, Louisiana, and Incorporated Areas
FEMA Docket No.: B-7726
Choudrant Creek | Confluence with Choudrant Creek Trib. 3 | +136 | Unincorporated Areas of Lincoln Parish.
| Approximately 1,550 feet from upstream of confluence with Choudrant Creek Trib. 6 | +185
Choudrant Creek Tributary 6 | Confluence with Choudrant Creek | +185 | Unincorporated Areas of Lincoln Parish.
| Approximately 1,250 feet upstream of confluence with Choudrant Creek Trib. 6.1 | +215
Colvin Creek | Confluence with Cypress Creek | +120 | Unincorporated Areas of Lincoln Parish, Town of Vienna.
| Approximately 2,080 feet upstream of confluence with Colvin Creek Tributary 3 | +182
Colvin Creek Tributary 2 | Confluence with Colvin Creek | +167 | Unincorporated Areas of Lincoln Parish.
| Approximately 905 feet upstream of Frazier Road | +188
Cypress Creek | Confluence with Cypress Creek Tributary 8 | +161 | Unincorporated Areas of Lincoln Parish, Town of Vienna.
| Confluence with Cypress Creek Tributary 15 | +206
Madden Creek Tributary 5 | Approximately 320 Feet Upstream of 2nd Street | +286 | Village of Simsboro.
| Confluence with Madden Creek | +301
Redwine Creek | Approximately 4,410 feet upstream of Facilities/Agriculture Drive | +231 | Village of Grambling, Unincorporated Areas of Lincoln Parish.
| Confluence with Redwine Creek Tributary 6 | +286
Redwine Creek Tributary 6 | Confluence with Redwine Creek | +286 | Village of Grambling.
| Approximately 1,100 feet upstream of Cornwell Dr | +311
* National Geodetic Vertical Datum.
+ North American Vertical Datum.
# Depth in feet above ground.
ADDRESSES
Town of Vienna
Maps are available for inspection at 5168 Highway 167, Ruston, LA 71270.
Lincoln Parish (Unincorporated Areas)
Maps are available for inspection at 100 West Texas Avenue, Ruston, LA 71270.
Village of Grambling
Maps are available for inspection at 2045 Martin Luther King Jr. Ave., Grambling, LA 71245.
Village of Simsboro
Maps are available for inspection at 2742 Martha St., Simsboro, LA 71275.
Grand County, Utah, and Incorporated Areas
FEMA Docket No.: B-7721
Pack Creek | At the confluence with Mill Creek 160 feet upstream of Mill Creek | +4030 | Unincorporated Areas of Grand County City of Moab.
| 160 feet upstream of Mill Creek Drive | +4199
* National Geodetic Vertical Datum.
+ North American Vertical Datum.
# Depth in feet above ground.
ADDRESSES
City of Moab
Maps are available for inspection at 217 East Center Street, Moab, UT 84532.
Grand County (Unincorporated Areas)
Maps are available for inspection at Grand County Courthouse, Moab, UT 84532.
Washington County, Utah, and Incorporated Areas
FEMA Docket No.: B-7735
Ash Creek | Just upstream of the confluence with Virgin River | +3001 | City of Toquerville, City of Laverkin.
| Approximately 2,682 feet upstream of State Street | +3425
Cottonwood Spring Wash | Just upstream of the confluence with Shoal Creek | +5309 | Unincorporated Areas of Washington County, City of Enterprise.
| Approximately 16 feet downstream of SR-18 | +5369
Cottowood Wash | Just upstream of the confluence with Grapevine Pass Wash | +2681 | City of Washington.
| Approximately 361 feet downstream of State Street | +3086
Coyote Wash | Approximately 105 feet upstream of Kayenta Dr | +2976 | Unincorporated Areas of Washington County, Town of Ivins.
| Just upstream of the confluence with Santa Clara River | +3388
Fort Pierce Wash | At River Road | +2616 | Unincorporated Areas of Washington County, City of St. George.
| Approximately 6.3 miles upstream of River Road | +2772
Gould Wash | Just upstream of the confluence with Virgin River | +2898 | Unincorporated Areas of Washington County, City of Hurricane.
| Approximately 2,024 feet upstream of 180 West Street | +3290
Grapevine Pass Wash | Just upstream of the confluence with Virgin River | +2641 | City of Washington.
| Approximately 3,165 feet downstream of I-15 | +2962
Kayenta Wash | Just upstream of the confluence with Santa Clara River | +2962 | Unincorporated Areas of Washington County, Town of Ivins.
| Approximately 21 feet downstream of Taviawk Drive | +3237
Lava Flow Wash | Just upstream of the confluence with Tuacahn Wash | +2848 | City of Santa Clara.
| Approximately 1,100 feet upstream of Rachel Dr | +2918
Middleton Wash | Just upstream of the confluence with Virgin River | +2583 | City of St. George.
| Approximately 3,155 feet upstream of I-15 | +2910
Mill Creek | Just upstream of the confluence with Virgin River | +2629 | City of Washington, City of St. George.
| Approximately 3,622 feet upstream of Buena Vista Boulevard | +2866
North Fork Virgin River | Just upstream of the confluence with East Fork Virgin River | +3774 | Town of Springdale.
| Approximately 3.75 miles upstream of the confluence with East Fork Virgin River | +3921
Sand Hollow Wash | At the confluence of Halfway Wash | +2690 | City of Santa Clara, City of St. George.
| Approximately 2,449 feet upstream of Tuacahn Parkway | +2956
Santa Clara River | Just upstream of the confluence with Virgin River | +2538 | Unincorporated Areas of Washington County, City of Santa Clara, City of St. George.
| Approximately 1.2 miles upstream of Summerwood Circle | +2785
Shoal Creek | Approximately 2,893 feet upstream of Center Street | +5308 | Unincorporated Areas of Washington County, City of Enterprise.
| Approximately 1,838 feet downstream of Center Street | +5321
Spring Creek | Just upstream of the confluence with Shoal Creek | +5321 | Unincorporated Areas of Washington County, City of Enterprise.
| Approximately 2,314 feet upstream 100 S ST | +5346
Tuacahn Wash | Approximately 492 feet downstream of Little League Drive | +2782 | City of Santa Clara, Town of Ivins.
| Approximately 1,765 feet upstream of Tuacahn Drive | +3078
Unnamed Wash 1 to Cottonwood Wash | Just upstream of the confluence with Cottonwood Wash | +2930 | City of Washington.
| 310 feet downstream of State Street | +3074
Virgin River | Approximately 3,303 feet dowstream of confluence with Big Valley Wash | +2467 | Unincorporated Areas of Washington County, City of St. George, City of Washington.
| Approximately 1.78 miles upstream of the confluence with Grapevine Pass Wash | +2664
* National Geodetic Vertical Datum.
+ North American Vertical Datum.
# Depth in feet above ground.
ADDRESSES
City of Enterprise
Maps are available for inspection at 375 S 300 E, Enterprise, UT 84725.
City of Hurricane
Maps are available for inspection at 147 N 870 W, Hurricane, UT 84737.
City of Laverkin
Maps are available for inspection at 435 N Main, Laverkin, UT 84745.
City of Santa Clara
Maps are available for inspection at 2721 Santa Clara Dr, Santa Clara, UT 84765.
City of St. George
Maps are available for inspection at 175 E 200 N, St. George, UT 84770.
City of Toquerville
Maps are available for inspection at 212 Toquer Blvd, Toquerville, UT 84774.
City of Washington
Maps are available for inspection at 111 N 100 E, Washington, UT 84780.
Town of Ivins
Maps are available for inspection at 55 N Main, Ivins, UT 84738.
Town of Springdale
Maps are available for inspection at 197 E Tabernacle St, St. George, UT 84770.
Unincorporated Areas of Washington County
Maps are available for inspection at 197 E Tabernacle St, St. George, UT 84770.
Sheboygan County, Wisconsin, and Incorporated Areas
FEMA Docket No.: D-7800
East Branch Milwaukee River | Just upstream of Division Road | +1012 | Unincorporated Areas of Sheboygan County.
| At intersection between Division Road and Scenic Drive | +1012
Sheboygan River | Approximately 4,700 feet upstream of County Highway JM | +770 | Unincorporated Areas of Sheboygan County.
| Approximately 1,500 feet upstream of County Highway A | +798
* National Geodetic Vertical Datum.
+ North American Vertical Datum.
# Depth in feet above ground.
ADDRESSES
Sheboygan County (Unincorporated Areas)
Maps are available for inspection at Administration Building, 508 New York Avenue, Sheboygan, WI 53081-4126.

(Catalog of Federal Domestic Assistance No. 97.022, “Flood Insurance.”)

Dated: October 16, 2008.
Edward L. Connor,
Acting Federal Insurance Administrator of the National Flood Insurance Program, Department of Homeland Security, Federal Emergency Management Agency.

[FR Doc. E8-25257 Filed 10-24-08; 8:45 am]

BILLING CODE 9110-12-P